ENVIRONMENTAL PROTECTION AGENCY

[FRL-11289-01-OA]

Local Government Advisory Committee: Request for Nominations

AGENCY: Environmental Protection Agency (EPA).

ACTION: Notice of request for nominations.

SUMMARY: The U.S. Environmental Protection Agency (EPA) invites nominations from a diverse range of qualified candidates to be considered for appointment to its Local Government Advisory Committee (LGAC). Qualified nominees for the LGAC hold elected positions with local, Tribal, State, or Territorial governments, or serve in a full-time government position appointed by an elected official. EPA is seeking up to 5 individuals to serve one-year terms beginning in January 2024. For more information on the LGAC, including member bios, recent meeting summaries and recommendations, visit: https://www.epa.gov/ocir/local-government-advisory-committee-lgac.

DATES: To be considered for 2024 appointments, nominations should be submitted by September 30, 2023.

ADDRESSES: How to Apply: Submit nominations electronically to LGAC@epa.gov with a subject heading of `LGAC 2024 NOMINATION' and complete the form at https://tinyurl.com/yvt2t6f8.

FOR FURTHER INFORMATION CONTACT: Paige Lieberman, the LGAC Designated Federal Officer at (202) 564-9957/LGAC@epa.gov.

SUPPLEMENTARY INFORMATION:

Qualifications

The Local Government Advisory Committee (LGAC) is chartered under the Federal Advisory Committee Act (FACA), Public Law 92-463, to advise the EPA Administrator on environmental issues impacting local governments. Members of LGAC will provide advice and recommendations on a broad range of issues related to promoting and protecting public health and the environment. For 2024 the topics addressed will include but not be limited to:

• Advancing environmental justice;

• Developing capacity for technical assistance at the local level;

• Reducing greenhouse gas emissions;

• Bolstering resilience to the impacts of climate change;

• Supporting local governments in the assessment and remediation of PFAS chemicals.

Viable candidates must be current elected officials representing local, State, Tribal, or Territorial governments. Officials working full-time for a local, State, Tribal, or Territorial government who have been appointed directly by an elected official will also be considered. Preference will be given to qualified candidates who demonstrate experience developing and implementing environmental programs consistent with the 2024 topics listed above. To maintain geographical diversity of the Committee, preference for LGAC membership may also be given to qualified candidates from Tribal or Territorial governments, and candidates from the Southwest U.S.

Additional criteria to be considered may include: experience with multi-sector partnerships; coalition-building and grassroots involvement; involvement and leadership in national, State or regional intergovernmental associations; and diversity in vocational/career/volunteer background.

Time Commitment

New LGAC members are appointed for 1-year terms and are eligible for reappointment for up to 6 years. In 2024, the Committee plans to hold two or three full-day, public meetings, where both in-person and online participation options will be available.

In addition to public meetings, Workgroups will be created to address the 2024 topics noted above, as well as any emerging issues. Members will be encouraged to serve on one or more Workgroups, where they will be asked to share their experiences working on an issue, recommend experts on an issue for the Committee to consult with, debate the nuances of policy implementation, and review written recommendations before they are shared with the full Committee. Applicants should plan to spend an average of three hours per month on Committee work. While EPA is unable to provide compensation for services, official Committee travel and related expenses (lodging, etc.) will be fully reimbursed.

Nominations

Nominations must be submitted in electronic format. To be considered, all nominations should complete the application at this link: https://forms.gle/8gccVHdd6UUGVZYU9.

Other sources, in addition to this Federal Register notice, may be utilized in the solicitation of nominees. EPA expressly values diversity, equity, and inclusion, and encourages the nominations of elected and appointed officials from diverse backgrounds so that the LGAC and SCAS look like America and reflect the country's rich diversity. Individuals may self-nominate.

Dated: August 22, 2023.
Paige Lieberman,
EPA Designated Federal Officer, Local Government Advisory Committee.

[FR Doc. 2023-18652 Filed 8-29-23; 8:45 am]

BILLING CODE 6560-50-P